DEPARTMENT OF VETERANS AFFAIRS

GI Bill Trademark Terms of Use

AGENCY: Department of Veterans Affairs.

ACTION: Notice.

SUMMARY: The purpose of this notice is to advise the public of the terms of use for the GI Bill Trademark. The trademark is to protect Servicemembers, Veterans, and eligible family members and survivors eligible for GI Bill educational benefits from schools that mislead with deceptive promotional efforts, targeting those benefits for monetary gain.

DATES: Effective Date: March 10, 2014.

FOR FURTHER INFORMATION CONTACT: Barrett Y. Bogue, GI Bill Outreach Development Team Leader, at (202) 461-9800, Department of Veterans Affairs, Veterans Benefits Administration (22), 810 Vermont Avenue NW., Washington, DC 20420.

SUPPLEMENTARY INFORMATION:

Background: On April 27, 2012, President Obama signed Executive Order 13607, directing the Department of Veterans Affairs (VA), the Department of Defense, and the Department of Education to undertake a number of measures to “stop deceptive and misleading” promotional efforts that target the GI Bill educational benefits of Servicemembers, Veterans, and eligible family members and Survivors. Trademarking “GI Bill” was part of that order to protect military families from being misled by schools that target their Federal education benefits.

A trademark is a word, phrase, symbol or design, or a combination thereof, that identifies and distinguishes the source of the goods of one party from those of others. A trademark typically protects brand names and logos used on goods and services.

For the purposes of this trademark, GI Bill is defined as a service, “providing education benefits, namely, financial assistance such as accelerated payment and tuition assistance for institutions of higher learning, non-college degree programs, on-the-job training and apprenticeship training, flight training, independent training, distance learning and internet training, correspondence training, national testing programs, licensing and certification; entrepreneurship training, work-study programs, and co-op training to Veterans, Servicemembers, National Guard members, Selected Reserve members, and eligible dependents.”

As of October 16, 2012, “GI Bill” is a federally registered trademark owned by VA. The mark consists of standard characters without claim to any particular font, style, size, or color.

Authorized Use of the Trademark: Third-party use of the trademark is restricted to the education and training institutions eligible to receive VA education benefits, State Approving Agencies, and recognized Veterans Service Organizations. Parties not identified are prohibited from using GI Bill in any manner that directly or indirectly implies a relationship, affiliation, or endorsement with the Department of Veterans Affairs.

Terms of Use: Authorized third-parties may use the registered trademark “GI Bill” in print, electronic, radio, digital, or other media as established by the terms of use.

The trademark symbol “®” should be placed at the upper right corner of the trademarked phrase in the most prominent place at first usage; such as the title of a brochure, form, or the very top of a Web page and the following trademark attribution notice must be prominently visible: “GI Bill® is a registered trademark of the U.S. Department of Veterans Affairs (VA). More information about education benefits offered by VA is available at the official U.S. government Web site at www.benefits.va.gov/gibill.”

Use of the registered trademark symbol is not required each time the mark appears in a single document or on a Web page. However, the symbol should be prominent on all individual documents and Web pages.

Third-party use of the trademark is restricted and subject to the following:

(1) The GI Bill trademark is not to be incorporated or included in company or product names, trademarks, logos or internet domain names.

(2) The term “GI Bill®” is to be used solely to promote official VA benefit programs and services and must include the proper trademark symbol.

(3) Use of the trademark attribution notice, indicating that the mark and all associated services belong to VA, is required and shall be taken as evidence that use of the mark is in good faith.

(4) No entity shall use the GI Bill trademark in any manner that directly or indirectly implies a relationship, affiliation, or association with VA that does not exist.

(5) Disparagement or misrepresentations of VA services through use of the mark, or by the use of confusingly similar wording, are strictly prohibited.

Infringement: VA reserves the right to bring action against any party that violates VA's terms-of-use concerning the mark in Federal court. Suspected violations must be reported by email to GI-Bill-Trademark.vbaco@va.gov with the following information:

Date suspected violation occurred;

Location;

Explanation; and

Designated Point of Contact Information.

Authority: E.O. 13607, USPTO Reg. No. 4,225,784.

Signing Authority

The Secretary of Veterans Affairs, or designee, approved this document and authorized the undersigned to sign and submit the document to the Office of the Federal Register for publication electronically as an official document of the Department of Veterans Affairs. Jose D. Riojas, Chief of Staff, Department of Veteran Affairs, approved this document on March 1, 2014, for publication.

Dated: March 5, 2014.
Robert C. McFetridge,
Director, Office of Regulation Policy and Management, Office of the General Counsel, Department of Veterans Affairs.

[FR Doc. 2014-05110 Filed 3-7-14; 8:45 am]

BILLING CODE 8320-01-P